DEPARTMENT OF DEFENSE

Department of the Army, Corps of Engineers

Notice of Availability Supplemental Draft Environmental Impact Statement for the White River Minimum Flow Reallocation Study, Arkansas

AGENCY: Department of the Army, U.S. Army Corps of Engineers, DOD.

ACTION: Notice of availability.

SUMMARY: Pursuant to section 102(2)(c) of the National Environmental Policy Act (NEPA) of 1969 (as amended), the U.S. Army Corps of Engineers (USACE), Little Rock District, has prepared a Supplemental Draft Environmental Impact Statement (SDEIS) for the proposed implementation of the White River Minimum Flow, Arkansas. This SDEIS is being made available for a 45-day public comment period.

DATES: Public meetings for receiving comments on the DEIS are tentatively scheduled for August 26, 2008, at Forsyth, MO; and August 27, 2008, at Mountain Home, AR. Specific times and locations will be announced at a later date. Written comments on the SDEIS should be submitted on or before September 22, 2008.

ADDRESSES: Questions or comments concerning the SDEIS should be addressed to Mike Biggs, Project Manager, Planning & Environmental Office, P.O. Box 867, Little Rock, Arkansas 72203-0867.

FOR FURTHER INFORMATION CONTACT: Mike Biggs, telephone 501-324-7342, E-mail: mike.l.biggs@swl02.usace.army.mil.

SUPPLEMENTARY INFORMATION: Setting: The White River and its tributaries drain a total area of 27,765 square miles (10,620 square miles in Missouri and 17,145 square miles in Arkansas). The White River basin originates in the Boston Mountains of northwest Arkansas (AR), near the city of Fayetteville. Three forks, the White River, the Middle Fork, and the West Fork, come together in Washington County, AR, to form the mainstem of the White River. The White River is first impounded as Lake Sequoyah, a 500-acre impoundment at the junction of the Middle Fork and the White River, near Fayetteville. The White River flows south out of Lake Sequoyah and joins the West Fork before entering Beaver Lake just west of Eureka Springs, AR. The White flows out of Beaver Dam (the first in a series of four hydroelectric dams) northward into Missouri (MO) near the town of Eagle Rock, Barry County. The White then flows eastward where it has been impounded as Table Rock Lake, just below its confluence with the James River near Branson. The White River below Table Rock Lake is again impounded by Powersite Dam near Forsyth, MO, and forms Lake Taneycomo. The river flow takes a southerly turn and flows back into Arkansas where it has again been impounded by Bull Shoals Dam near Cotter, Marion County. The White River flows towards the southeast from Bull Shoals Dam. The White river exits the Ozark Plateau and enters the Mississippi Alluvial Plain near Newport, AR. The White River continues to flow in a southerly direction from where it enters the delta until its confluence with the Mississippi River near Montgomery Point, AR, some 720 miles from its origin.

The original focus of the White River Minimum Flow Reallocation Study was to look at the five USACE reservoirs and associated tailwaters (TW). The TW below Beaver is considered as White River Mile (WRM) 609.0-604.5, Bull Shoals WRM 418.6-329.1, Table Rock WRM 528.7-506.0, below Norfork, North Fork River mile (NRM) 4.75 to 0.0, and the Buffalo National River enters at WRM 387.8 and the Norfork enters at WRM 376.4. The Greers Ferry TW Little Red River mile (LRRM) 78.7-48.7 is below Greers Ferry dam.

Background: The Department of the Army, Corps of Engineers, published a Notice of Intent in the Federal Register (65 FR 51299), August 23, 2000, stating its intent to prepare an EIS for a proposed water storage reallocation for the 5 White River lakes.

The Corps was directed to complete a study and report to determine if minimum flow reallocations adversely affect other authorized purposes under Section 374 of the Water Resources Development Act (WRDA) 1999 and Section 304 of WRDA 2000.

Under the original authorization, water levels were managed primarily for flood control and hydroelectric power generation at four of the White River Reservoirs as well as water supply at Beaver Lake. WRDA 1999 and 2000 provided minimum flows necessary to sustain tailwater trout fisheries by reallocating the following recommended amounts of project storage: Beaver Lake, 1.5 feet; Table Rock Lake, 2 feet; Bull Shoals Lake, 5 feet; Norfork Lake, 3.5 feet; and Greers Ferry Lake, 3 feet. The Act further stated that no funds may be obligated to carry out work on the modification under subsection (a) until the Chief of Engineers, through completion of a final report, determines that the work is technically sound, environmentally acceptable, and economically justified.

Subsequent to the completion of the Draft Environmental Impact Statement (DEIS), Section 132 of the FY 2006 Energy and Water Resources Development Act (Pub. L. 109-103) authorized the implementation of plans BS-3 at Bull Shoals and NF-7 at Norfork lakes, as described in the Reallocation Report, at full Federal expense in accordance with section 906(e) of WRDA 86. Section 132 did not authorize implementation of Minimum Flows at Beaver, Norfork, and Greers Ferry Lakes. Also, Section 132 repealed the previous project authorities in WRDA 99 and WRDA 00, resulting in a new project.

The SDEIS analyzed the impacts to the five White River Reservoirs, however; emphasis is placed on Bull Shoals and Norfork Lakes due to the changes made with the FY 2006 Energy and Water Resources Development Act (Pub. L. 109-103). Previous study efforts evaluating the other lakes are included in the interest of full disclosure.

Proposed Action and Alternatives: WRDA 1999 and 2000 authorized the Little Rock District Corps of Engineers to reallocate specific “feet” of storage from each of the five White River reservoirs. WRDA did not specify which storage zone to take the “feet” of storage. Currently the lakes are divided into two zones, flood pool and conservation pool. The volume of storage provided by reallocating “feet” of storage from conservation pool is less than the volume of storage provided by the same “feet” of storage from the flood pool.

The White River Reallocation Study completed in 2004 and the DEIS evaluated three reallocation plans at each reservoir, (1) Reallocation from the flood pool, (2) reallocation from the conservation pool and, (3) splitting the reallocation 50:50 from each pool. The study also looked at different methods of water release such as through existing station service units and siphons, new station service units, through the main turbines, or through siphons only.

After the submittal of the 2004 reallocation study, authorization was included in the FY 2006 Energy and Water Resources Development Act (EWRDA) that selected alternatives BS3 (reallocation at Bull Shoals Lake from the flood pool released through an existing hydropower main turbine) and NF7 (reallocation from a 50:50 split between the flood pool and the conservation pool with releases through existing station service units and siphons). These alternatives were designated the “preferred alternative” and as such comply with Congressional directives and provide compensation to the hydropower users and affected facilities.

SDEIS Availability: The SDEIS will be available for public review at the following locations:

U.S. Army Corps of Engineers, 700 West Capital Avenue, ATTN: CESWL-PE, Room 7500, Little Rock, AR 72203.

U.S. Army Corps of Engineers, Beaver Lake Project Office, 2260 N. 2nd Street, Rogers, AR 72756.

U.S. Army Corps of Engineers, Table Rock Lake Project Office, 3530 U.S. Highway 165, Branson, MO 65616.

U.S. Army Corps of Engineers, Mountain Home Project Office, 324 W. 7th Street, Mountain Home, AR 72653.

U.S. Army Corps of Engineers, Greers Ferry Project Office, 700 Heber Springs Road North, Heber Springs, AR 72543.

City of Forsyth Public Library, 162 Main St, Forsyth, MO 65653.

Baxter County, Main Library, 424 West 7th Street, Mountain Home, AR 72653.

Baxter County, Gassville Branch, 6469 Highway 62 SW., Gassville, AR.

Taney Hills Community Library, 200 S 4th St, Branson, MO 65616.

Central Arkansas Main Library, 100 Rock Street, Little Rock, AR 72201.

Central Arkansas Roosevelt Thompson Library, 38 Rahling Circle, Little Rock, AR 72223.

Commenting: Comments received in response to this SDEIS, including names and addresses of those who comment will be considered part of the public record. Comments submitted anonymously will also be accepted and considered. Pursuant to Title 7 of the CFR 1.27(d), any person may request that the Corps withhold a submission from the public record if he or she can demonstrate that the Freedom of Information Act (FOIA) permits such confidentiality. Persons requesting such confidentiality should be aware that, under FOIA, confidentiality may be granted in only very limited circumstances, such as to protect trade secrets. The Corps will inform the requester of the agency's decision regarding the request for confidentiality. If the request is denied, the Corps will return the submission with notification that the comments may be resubmitted either with or without the commentor's name and address.

Affected local, State, or Federal agencies, affected American Indian tribes, and other interested private organizations and parties may participate in the review process by forwarding written comments to the address given previously or by attending the public meetings.

Donald E. Jackson, Jr.,
Colonel, U.S. Army, District Commander.

[FR Doc. E8-18018 Filed 8-5-08; 8:45 am]

BILLING CODE 3710-57-P